DEPARTMENT OF THE INTERIOR

Fish and Wildlife Service

[FWS-HQ-ES-2020-N139; FF09E00000 190 FXES11130900000; OMB Control Number 1018-0094]

Agency Information Collection Activities; Submission to the Office of Management and Budget for Review and Approval; Federal Fish and Wildlife Permit Applications and Reports—Native Endangered and Threatened Species

AGENCY: Fish and Wildlife Service, Interior.

ACTION: Notice of information collection; request for comment.

SUMMARY: In accordance with the Paperwork Reduction Act of 1995, we, the U.S. Fish and Wildlife Service (Service), are proposing to renew an information collection with revisions.

DATES: Interested persons are invited to submit comments on or before January 4, 2021.

ADDRESSES: Written comments and recommendations for the proposed information collection should be sent within 30 days of publication of this notice to www.reginfo.gov/public/do/PRAMain. Find this particular information collection by selecting “Currently under 30-day Review—Open for Public Comments” or by using the search function. Please provide a copy of your comments to the Service Information Collection Clearance Officer, U.S. Fish and Wildlife Service, MS: PRB (JAO/3W), 5275 Leesburg Pike, Falls Church, VA 22041-3803 (mail); or by email to Info_Coll@fws.gov. Please reference OMB Control Number 1018-0094 in the subject line of your comments.

FOR FURTHER INFORMATION CONTACT: Madonna L. Baucum, Service Information Collection Clearance Officer, by email at Info_Coll@fws.gov, or by telephone at (703) 358-2503. Individuals who are hearing or speech impaired may call the Federal Relay Service at 1-800-877-8339 for TTY assistance. You may also view the information collection request (ICR) at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

On July 6, 2020, we published in the Federal Register (85 FR 40309) a notice of our intent to request that OMB approve this information collection. In that notice, we solicited comments for 60 days, ending on September 4, 2020. We received one comment in response to that notice:

Comment 1: The respondent commented on the Southeast Geographic Area Bat Reporting Form (3-202-55c), the Mussel Reporting Form (3-2523), and the Bumblebee Reporting Form (3-2526). They supported the southeast bat reporting form, stating their opinion that the form is useful, and an improvement over their State's reporting form. They also recommended providing forms in an electronic input format for use in the field.

Agency Response to Comment 1: We appreciate the respondent's response on the utility of the Southeast Geographic Area Bat Reporting Form. The respondent is not within the geographic area where they would be using the Mussel or Bumblebee Reporting Forms, so their comments are not germane to the information collection at this time. We will update the form names accordingly to reduce confusion. At this time, we are not exploring creating an electronic input data form, but we will consider this as a potential streamlining tool for future information collection renewals.

As part of our continuing effort to reduce paperwork and respondent burdens, we are again soliciting comments from the public and other Federal agencies on the proposed information collection request (ICR) that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The Endangered Species Act (ESA; 16 U.S.C. 1531 et seq.) provides a means to conserve the ecosystems upon which endangered and threatened species depend, to provide a program for the conservation of these endangered and threatened species, and to take the appropriate steps that are necessary to bring any endangered or threatened species to the point where measures provided for under the ESA are no longer necessary. Section 10(a)(1)(A) of the ESA authorizes us to issue permits for otherwise prohibited activities in order to enhance the propagation or survival of the affected species. Section 10(a)(1)(B) of the ESA authorizes us to issue permits if the taking is incidental to the carrying out of an otherwise lawful activity. ESA section 10(d) requires that such permits be applied for in good faith and, if granted, that the permit not operate to the disadvantage of endangered species, and that the permit be consistent with the purposes of the ESA.

Our regulations implementing the ESA are in chapter I, subchapter B of title 50 of the Code of Federal Regulations (CFR) (50 CFR 13 and 50 CFR 17). The regulations stipulate general and specific requirements that, when met, allow us to issue permits to authorize activities that are otherwise prohibited. Upon receipt of a complete application, the Director may issue a permit authorizing any activity otherwise prohibited by § 17.21, in accordance with the issuance criteria of this section, for scientific purposes, for enhancing the propagation or survival, or for the incidental taking of endangered wildlife. Such permits may authorize a single transaction, a series of transactions, or a number of activities over a specific period of time. (See § 17.32 for permits for threatened species.)

We collect information associated with application forms to determine the eligibility of applicants for permits requested in accordance with the criteria in section 10 of the ESA. The Service uses the following permit application forms for activities associated with native endangered and threatened species:

• Form 3-200-54, Enhancement of Survival Permits Associated with Safe Harbor Agreement & Candidate Conservation Agreement with Assurances;

• Form 3-200-56, Incidental Take Permits Associated with a Habitat Conservation Plan;

• Form 3-200-59, Recovery Permit Application Form; and

• Form 3-200-60, Interstate Commerce Application Form.

On June 6, 2020, we requested and obtained approval from OMB to split the previously approved Form 3-200-55 to two separate permit applications (asking the applicant to select either Recovery Permit or Interstate Commerce) to reduce the overall form length and confusion. Based on which permits are issued, we also require reports to monitor activities associated with permitted activities in accordance with their permits issued based on 50 CFR 17. Annual reports associated with permits are tailored to a specific activity based on the requirements for specific types of permits. In some cases, we developed specific information collection forms to facilitate and standardize the reporting and review, and to facilitate development of electronic forms and electronic reporting and retrieval of that information.

Annual reporting of the results subsequent to the activity authorized by the permit is required in most cases (under the authority of section 10(a)(1)(A) and 10(a)(1)(B) of the ESA and its implementing regulations at 50 CFR 17). These reports allow us to evaluate the success of the project, formulate further research, and develop and adjust management and recovery plans for the species. We currently use the following reports specific to particular species (and regions, where appropriate):

• Form 3-202-55b, Region 3 [Midwest] Bat Reporting Spreadsheet;

• Form 3-202-55c, Region 4 [Southeast] Bat Reporting Spreadsheet;

• Form 3-202-55d, Region 5 [Northeast] Bat Reporting Spreadsheet;

• Form 3-202-55e, Region 6 [Mountain-Prairie] Bat Reporting Spreadsheet;

• Form 3-202-55f, Non-Releasable Sea Turtle Annual Report; and

• Form 3-202-55g, Sea Turtle Rehabilitation Annual Report.

Additionally, we require that the following notifications be made to the Service:

• Private landowners who have an Enhancement of Survival Permit (and accompanying Safe Harbor Agreement or Candidate Conservation Agreement with Assurances) must notify us if their land management activities incidentally take a listed or candidate species covered under their permit.

• We issue Enhancement of Survival Permits to landowners, and their name is printed on the permit. If ownership of the land changes, this permit does not automatically transfer to the new landowner. Therefore, we ask the permittee to notify us if there is a change in land ownership so that we may update the permit; and

• If a recovery or interstate commerce permit authorizes activities that include keeping wildlife in captivity, we ask the permittee to notify us if any of the captive wildlife escape.

Proposed Revisions

Although the Service announced its intention to seek OMB approval of a new form 3-2531, General Recovery Permit Reporting Form, in the published 60-day Federal Register notice (FRN), we no longer plan to proceed with this form. Should the Service decide to move forward with this new form at a later date, we will initiate a new revision to this collection by publishing the required 60-day FRN to solicit comments from the public in accordance with 5 CFR 1320.

Revised Forms

The Service is proposing to revise FWS Forms 3-200-54, “Enhancement of Survival Permits Associated with Safe Harbor Agreements and Candidate Conservation Agreements with Assurances,” and 3-200-56, “Incidental Take Permits Associated with a Habitat Conservation Plan.” We propose to remove program contact information currently in both application form, and instead link to a permanent website. This website will be frequently maintained and will provide the public with the most accurate contact information.

The Service is proposing to revise and rename the following five forms associated with bat surveys:

• Form 3-202-55a, U.S. Fish and Wildlife Service Geographic Area: Southwestern Bat Reporting Form;

• Form 3-202-55b, U.S. Fish and Wildlife Service Geographic Area: Midwestern Bat Reporting Form;

• Form 3-202-55c, U.S. Fish and Wildlife Service Geographic Area: Southeastern Bat Reporting Form;

• Form 3-202-55d, U.S. Fish and Wildlife Service Geographic Area: Northeastern Bat Reporting Form; and

• Form 3-202-55e, U.S. Fish and Wildlife Service Geographic Area: Plains/Rockies Bat Reporting Form.

The Service is proposing changes to these forms to address comments received. These changes include adding columns to increase flexibility for user data entry, to increase accuracy of Global Positioning System data, and to add three fields specifically requested by State natural resource agencies in order to unify their State databases with that of the Service. These additions eliminate the need for filing a separate reporting form with the State and reduce the overall reporting burden on the respondents. Completion of the information on the forms regarding the activity(ies) to be authorized by the permit is required in most cases (under the authority of section 10(a)(1)(A) of the ESA and its implementing regulations at 50 CFR 17).

Note: Form 3-202-55a, “U.S. Fish and Wildlife Service Geographic Area: Southwestern Bat Reporting Form” was added in conjunction with the realignment of the geographical areas covered in the revisions to the geographical areas covered by the above referenced 3-202-55 series bat reporting forms.

New Forms

The Service is proposing to revise this collection to request OMB approval of the following seven new forms:

• Form 3-2523, Midwest Geographic Area: Freshwater Mussel Reporting Form;

• Form 3-2526, Midwest Geographic Area: Bumble Bee Reporting Form;

• Form 3-2530, California/Nevada/Klamath Basin, OR Recovery Permit Annual Summary Report Form;

• Form 3-2532, U.S. Fish and Wildlife Service Geographic Area: Alaska Bat Reporting Form;

• Form 3-2533, U.S. Fish and Wildlife Service Geographic Area: Northwestern Bat Reporting Form; and

• Form 3-2534, U.S. Fish and Wildlife Service Geographic Area: Western Bat Reporting Form.

Annual reporting of the results subsequent to the activity authorized by the permit is required in most cases (under the authority of section 10(a)(1)(A) and 10(a)(1)(B) of the ESA and its implementing regulations at 50 CFR 17). The Service designed the forms to facilitate the electronic reporting specifically for each species. The Service will use the reported data to evaluate the success of the permitted project, formulate further research, and develop and adjust management and recovery plans for the species. The data will also inform 5-year reviews and Species Status Assessments conducted under the ESA.

ePermits Initiative

The Service's new ePermits initiative is an automated permit application system that will allow the agency to move toward a streamlined permitting process to reduce public burden. Public burden reduction is a priority for the Service; the Assistant Secretary for Fish, Wildlife, and Parks; and senior leadership at the Department of the Interior. The intent of the ePermits initiative is to fully automate the permitting process to improve the customer experience and to reduce time burden on respondents. This new system will enhance the user experience by allowing users to enter data from any device that has internet access, including personal computers (PCs), tablets, and smartphones. It will also link the permit applicant to the Pay.gov system for payment of associated permit application fees, where applicable.

Upon completion of the new ePermits system, applicants applying for Recovery, Interstate Commerce, Habitat Conservation Plan Incidental Take Permits, Candidate Conservation Agreements with Assurances, and Safe Harbor Agreements Enhancement of Survival Permits will have the opportunity to apply directly online through a secure, web-based platform.

Title of Collection: Federal Fish and Wildlife Permit Applications and Reports—Native Endangered and Threatened Species; 50 CFR 10, 13, and 17.

OMB Control Number: 1018-0094.

Form Numbers: FWS Forms 3-200-54, 3-200-56, 3-200-59, 3-200-60, 3-202-55a through 3-202-55g, 3-2523 (new), 3-2526 (new), 3-2530 (new), and 3-2532 through 3-2534 (new).

Type of Review: Revision of a currently approved collection.

Respondents/Affected Public: Individuals; private sector; and State/local/Tribal governments.

Total Estimated Number of Annual Respondents: 4,258.

Total Estimated Number of Annual Responses: 4,258.

Estimated Completion Time per Response: Varies from 30 minutes to 2,080 hours, depending on activity.

Total Estimated Number of Annual Burden Hours: 119,949.

Respondent's Obligation: Voluntary.

Frequency of Collection: On occasion, annually, one time.

Total Estimated Annual Nonhour Burden Cost: $54,910 for fees associated with permit applications and amendments.

An agency may not conduct or sponsor and a person is not required to respond to a collection of information unless it displays a currently valid OMB control number.

The authority for this action is the Paperwork Reduction Act of 1995 (44 U.S.C. 3501 et seq.).

Dated: November 30, 2020.
Madonna Baucum,
Information Collection Clearance Officer, U.S. Fish and Wildlife Service.

[FR Doc. 2020-26614 Filed 12-2-20; 8:45 am]

BILLING CODE 4333-15-P